DEPARTMENT OF TRANSPORTATION

National Highway Traffic Safety Administration

49 CFR Part 501

[Docket No. NHTSA-2009-0146; Notice 1]

Delegations of Authority

AGENCY: National Highway Traffic Safety Administration (NHTSA), Department of Transportation (DOT).

ACTION: Final rule.

SUMMARY: This document amends NHTSA's delegations of authority. The amendment effectuates an adjustment that will enable NHTSA to achieve its mission more effectively and efficiently.

DATES: Effective Date: The amendment is effective August 14, 2009.

FOR FURTHER INFORMATION CONTACT: You may contact Jessica Lang, Office of Chief Counsel, NHTSA, 1200 New Jersey Avenue, SE., Washington, DC 20590, by phone at 202-366-5263, or by fax at 202-366-3820.

SUPPLEMENTARY INFORMATION: This final rule amends the regulation on delegation of powers and duties within the National Highway Traffic Safety Administration (NHTSA). The amendment relates solely to the placement of the delegation of authority for a function within the agency. It increases the authority of the Chief Counsel to compromise civil penalties and monetary settlements. There is no substantive effect. Notice and the opportunity for comment are therefore not required under the Administrative Procedure Act. The amendment is effective immediately upon publication in the Federal Register. In addition, the amendment is not subject to Executive Order 12866, the Department of Transportation's regulatory policies and procedures, or the provisions for Congressional review of final rules in Chapter 8 of Title 5, United States Code.

List of Subjects in 49 CFR Part 501

Authorities, Delegations, Organization and functions, Succession to Administrator.

In consideration of the foregoing, 49 CFR part 501 is amended as follows:

PART 501—[AMENDED]

1. The authority citation for part 501 continues to read as follows:

Authority: 49 U.S.C. secs. 105 and 322, delegation of authority at 49 CFR 1.50.

Amendment effective August 14, 2009.

2. Section 501.8(d)(2) is revised to read as follows:

§ 501.8 Delegations.

* * * * *

(d) * * *

(2) Establish the legal sufficiency of all investigations and enforcement actions conducted under the authority of the following chapters, including notes, of Title 49 of the United States Code: Chapter 301; chapter 323; chapter 325; chapter 327; chapter 329; and chapter 331; to make an initial penalty demand based on a violations of any of these chapters; and to compromise any civil penalty or monetary settlement in an amount of $100,000 or less resulting from a violation of any of these chapters.

* * * * *

Issued: August 7, 2009.
Ronald L. Medford,
Acting Deputy Administrator.

[FR Doc. E9-19480 Filed 8-13-09; 8:45 am]

BILLING CODE 4910-59-P